DEPARTMENT OF THE INTERIOR

National Park Service

General Management Plan, Final Environmental Impact Statement, Washita Battlefield National Historic Site, OK

AGENCY: National Park Service, Department of the Interior.

ACTION: Availability of final environmental impact statement and General Management Plan for Washita Battlefield National Historic Site.

SUMMARY: Pursuant to section 102(2)(C) of the National Environmental Policy Act of 1969, the National Park Service announces the availability of a final Environmental Impact Statement and General Management Plan (FEIS/GMP) for Washita Battlefield National Historic Site, Oklahoma.

DATES: The FEIS/GMP was on public review from February 15, 2001 through April 20, 2001. Responses to public comment are addressed in the FEIS/GMP. A 30-day no-action period will follow the Environmental Protection Agency's Notice of Availability of the FEIS/GMP.

ADDRESSES: Copies of the FEIS/GMP are available from the Superintendent, Washita Battlefield National Historic Site, Oklahoma, 426 E. Broadway, Cheyenne, OK 73628. Public reading copies of the FEIS/GMP will be available for review at the following locations:

Office of the Superintendent, 426 E. Broadway, Cheyenne, OK 73628, Telephone: 580-497-2742

Planning and Environmental Quality, Intermountain Support Office—Denver, National Park Service, 12795 W. Alameda Parkway, Lakewood, CO 80228, Telephone: (303) 969-2851

Office of Public Affairs, National Park Service, Department of Interior, 18th and C Streets NW., Washington, DC 20240, Telephone: (202) 208-6843

Planning and Environmental Quality, Intermountain Support Office—Denver, National Park Service, PO Box 25287, Denver, CO 80225-0287

SUPPLEMENTARY INFORMATION: The FEIS/GMP analyzes three alternatives to manage the park and balance visitor use and resource protection. Under the preferred alternative visitors would have opportunities to participate in a variety of activities. The major action of the alternative would be to locate the visitor/administrative facility offsite at the U.S. Forest Service site. Alternative A would provide visitors with offsite learning opportunities, while preserving the reflective mood at the site. Under Alternative B visitors would be provided with onsite learning opportunities through integration of the visitor facilities with the historic scene.

The FEIS/GMP in particular evaluates the environmental consequences of the proposed action and the other alternatives on cultural resources, natural resources, visitor use, and the socioeconomic environment.

FOR FURTHER INFORMATION: Contact Superintendent, Washita Battlefield National Historic Site, at the above address and telephone number.

Dated: August 29, 2001.
Michael D. Synder,
Director, Intermountain Region, National Park Service.

[FR Doc. 01-27759 Filed 11-5-01; 8:45 am]

BILLING CODE 4310-70-P